DEPARTMENT OF HEALTH AND HUMAN SERVICES

Office of the Secretary

Opportunity for Cosponsorship of the President's Challenge Physical Activity and Fitness Awards Program

AGENCY: Department of Health and Human Services, Office of the Secretary, Office of Public Health and Science, Office of the President's Council on Physical Fitness and Sports.

ACTION: Notice.

SUMMARY: The Office of the President's Council on Physical Fitness and Sports (PCPFS) announces the opportunity for both non-Federal public and private sector entities to cosponsor/administer a series of financially self-sustaining PCPFS activities related to the President's Challenge Physical Activity and Fitness Awards Program. Potential cosponsors must have a demonstrated interest and capability to administer a series of physical activity/fitness and/or sports awards and recognitions and be willing to participate substantively in the cosponsored activity.

DATES: To receive consideration, a request to participate as a cosponsor must be received by the close of business on Friday, April 1, 2005 at the address listed. Requests will meet the deadline if they are either (1) received on or before the deadline date; or (2) postmarked on or before the deadline date. Private metered postmarks will not be acceptable as proof of timely mailing. Hand-delivered requests must be received by 5 p.m. Requests that are received after the deadline date will be returned to the sender.

ADDRESSES: Notification of interest and proposal for cosponsorship should be sent to Christine Spain, Director of Research, Planning and Special Projects, Office of the President's Council on Physical Fitness and Sports, Hubert H. Humphrey Building, Room 738-H, 200 Independence Avenue, SW., Washington, DC 20201; Ph: (202) 690-5148, Fax: (202) 690-5211. Notifications and proposals may also be submitted by electronic mail to cspain@osophs.dhhs.gov.

FOR FURTHER INFORMATION CONTACT: Christine Spain, Director of Research, Planning and Special Projects, Office of the President's Council on Physical Fitness and Sports, Hubert H. Humphrey Building, Room 738-H, 200 Independence Avenue, SW., Washington, DC 20201; Ph: (202) 690-5148, Fax: (202) 690-5211, E-mail: cspain@osophs.dhhs.gov.

SUPPLEMENTARY INFORMATION:

Background

The PCPFS was established by the President of the United States and operates under Executive Order No. 13265, continued by Executive Order 13316. The Secretary, through the Office of the PCPFS, receives recommendations from the Council and is developing and coordinating a national program to enhance physical activity/fitness and sports programs. Section (1)(b) of Executive Order (EO) 13265 provides that the Secretary will “enhance coordination of programs within and among the private and public sectors that promote participation in, and safe and easy access to, physical activity and sports.” In addition, the Secretary is directed by section (1)(c) of the EO 13265 to “expand availability of quality information and guidance regarding physical activity and sports participation.” Through the authority of section 1704 of the Public Health Service Act, the Office of PCPFS may support and “encourage others to support” activities related to physical activity/fitness, sports and health information and promotion, including the publication of information and securing the cooperation of communication media.

The purpose of the President's Challenge Physical Activity and Fitness Awards Program (the Program) is to motivate individuals six years and older to begin and continue an active lifestyle leading to enhanced physical fitness. It has reached over 70 million children and youth since its inception in 1966. The Program now focuses on three distinct program areas: physical fitness, health fitness, and active lifestyles. Adults can now participate with their children or log activities by themselves to earn the Presidential Active Lifestyle Award (PALA) and the Presidential Champions Program. Program materials are available in both English and Spanish.

Requirements of Cosponsorship

The Office of the PCPFS is seeking a cosponsoring organization(s) capable of administering a series of financially self sustaining PCPFS awards which presently include the following: Administration of the President's Challenge shall consist of the following program areas:

A. Active Lifestyle Program

Presidential Active Lifestyle Award (PALA)

Recognizing both youth and adults for being physically active on a regular basis. Participants are encouraged to keep track of their physical activity either with a paper log or by using online tools.

B. Presidential Champions Program

Gold, Silver, Bronze Awards

This program is a point-based program for both youth and adults recognizing those who are physically active on a regular basis and log their activities online. This program is only available online at http://www.presidentschallenge.org.

C. Physical Fitness Program

Presidential Physical Fitness Award (PPFA)

Recognizing youth for achieving an outstanding level of physical fitness based on a five-item test.

National Physical Fitness Award (NPFA)

Recognizing youth for achieving a basic, yet challenging, level of physical fitness based on a five-item test.

Participant Award

Recognizing those who attempt all five test items, but fall below the National Award level in one or more events

D. Health Fitness Program

Health Fitness Award

Recognizing youth who achieve a healthy level of fitness based on five test items, including Body Mass Index (BMI).

E. School Recognition Programs

Physical Fitness State Champion Program

Based on results of the Physical Fitness Program, schools are recognized for having the highest percentage of Presidential Physical Fitness Award winners for their state. States are broken into three categories based upon enrollment (minimum 50 students).

Physical Activity and Fitness Demonstration Center Program

Recognizing the important role that individual schools play in the lives of their students, this program rewards those schools that have demonstrated an outstanding commitment toward physical activity and fitness both in and out of their physical education classroom. Demonstration Center Schools shall serve a term of three years before becoming eligible to become an Honor Roll School.

Active Lifestyle Model School Program

Based on the results of the Active Lifestyle Program and objectives of Healthy People 2010, this program offers any school the opportunity to become an Active Lifestyle Model School. Model Schools are recognized for having 35% or more of their total school enrollment earn the PALA two or more times during the school year.

Each of these program areas shall involve the promotion and distribution of award items. These items shall include, but not be limited to, such products as emblems, medallions, ribbons, lapel pins, certificates, bumper stickers, magnets, booklets, pedometers, and apparel. Organizations (schools, youth and community groups, etc.) and individuals which participate in the PCPFS awards program purchase the award and recognition materials directly from the administering organization for a nominal fee.

Web Site Administration

Administration of the President's Challenge Web site (http://www.presidentschallenge.org) shall consist of, but not be limited to, the following: hosting, maintenance, customer service, online order center, listservs, etc.

Eligibility for Cosponsorship

To be eligible, a requester must: (1) Have a demonstrated interest and understanding of physical fitness and/or sports; (2) participate substantively in the cosponsored activity (not just provide funding or logistical support); (3) have an organizational or corporate mission that is not inconsistent with the public health and safety mission of the Department; and (4) agree to sign a cosponsorship agreement with the Office of the PCPFS which will set forth the details of the cosponsored activity including the requirements that any fees raised should not be designed to exceed the co-sponsor's costs, and fees collected by the co-sponsor should be limited to the amount necessary to cover the co-sponsor's related operating expenses.

Cosponsorship Proposal

Each cosponsorship proposal should contain a description of: (1) The entity or organization; (2) its background in promoting physical activity/fitness or sports; (3) its proposed involvement in the cosponsored activity; and (4) plan for implementation with timeline. The organization selected shall furnish the necessary personnel, materials, services and facilities to administer this PCPFS program (awards, recognitions and activities), including the purchase and/or production of all award materials; distribution of award materials; promotion; statistical evaluation of programs; quarterly and annual budget and demographic reports; and other administrative duties. These duties will be determined in a Memorandum of Agreement and an annual plan. The organization will be expected to provide input regarding new activities or initiatives to support the program, and recommend methods to improve program usage and promotion. The organization also will work with the PCPFS to consider other recognitions/programs bearing the PCPFS and/or Presidential insignias.

Evaluation Criteria

The cosponsor(s) will be selected by the Office of the PCPFS using the following evaluation criteria:

(1) Requester's qualifications and capability to fulfill cosponsorship responsibilities;

(2) Requester's creativity for enhancing the medium for program messages;

(3) Requester's potential for reaching underserved/special populations;

(4) Requester's experience in administering national awards programs;

(5) Requester's specific work previously performed or currently being performed, with particular emphasis on those national programs/projects dealing with physical activity/fitness, sports, or other physical activities of a similar nature, with schools, organizations, and individuals;

(6) Requester's personnel: Name, professional qualifications and specific experience of key personnel who would be available to work on these projects;

(7) Requester's facilities: Availability and description of facilities required to administer the program including information technology, computers, telecommunication resources;

(8) Requester's description of financial management: Discussion of experience in developing an annual budget and collecting and managing monies from organizations and/or individuals;

(9) Requester's proposed plan for managing the PCPFS awards programs, including such financial aspects as cost of award materials, promotion, distribution and program management.

Availability of Funds

There are no Federal funds available for this cosponsorship.

Dated: January 31, 2005.
Melissa Johnson,
Executive Director, President's Council on Physical Fitness and Sports, Department of Health and Human Services.

[FR Doc. 05-2163 Filed 2-3-05; 8:45 am]

BILLING CODE 4150-35-P